DEPARTMENT OF DEFENSE

Department of the Army, Corps of Engineers

Intent To Prepare a Draft Environmental Impact Statement (DEIS) for the Lake Tohopekaliga Extreme Drawdown and Habitat Enhancement, Osceola County, FL

AGENCY: U.S. Army Corps of Engineers, DoD.

ACTION: Notice of intent.

SUMMARY: The Jacksonville District, U.S. Army Corps of Engineers (Corps), the Florida Fish and Wildlife Conservation Commission, and the South Florida Water Management District intend to prepare a Draft Environmental Impact Statement (DEIS) on the feasibility of implementing a plan for the Lake Tohopekaliga Extreme Drawdown and Habitat Enhancement Project, Osceola County, Florida.

FOR FURTHER INFORMATION CONTACT: Questions about the proposed action and DEIS may be addressed to Ms. Heather Carolan or Ms. Lizabeth R. Manners, U.S. Army Engineer District, P.O. Box 4970, Jacksonville, Florida 32232-0019; Telephone 904-232-2016/3923.

SUPPLEMENTARY INFORMATION:

1. Proposed Project

a. Lake Tohopekaliga, located in Central Florida, has previously undergone three extreme drawdowns in 1971, 1979, and 1987. The drawdowns are designed to improve aquatic habitat that has been negatively impacted by flood control practices, which have resulted in detrimental stable lake levels and nutrient enrichment. Following refill of Lake Tohopekaliga after the three previous drawdowns the numbers of fish food organisms, sport fish and forage fish increased significantly; new aquatic vegetation communities became established; and organic sediments decreased in the lakes.

b. The purpose of this project is to improve the environmental ecosystem of Lake Tohopekaliga and thus provide quality habitat for fisheries, birds and other wildlife. Beneficial effects associated with the drawdown plan include bottom substrate improvements as organic build-up is reduced. Reduction of muck will lead to an increase in diversity and density of desirable vegetation. The drawdown will also allow the control of nuisance aquatic plants, such as hydrilla, water hyacinth, cattails, alligator weed, smartweed and pickerelweed, which proliferate under the unnatural static lake level conditions. In addition, the water quality of Lake Tohopekaliga will be enhanced by the nutrient uptake and filtration abilities by the recruitment of native plant species. Restoring littoral habitat, which favors bass, will increase native fish species.

c. Approximately 2,844 acres (40%) of shoreline along Lake Tohopekaliga will be exposed during the drawdown. Organic bottom sediments should compact and consolidate during the scheduled low water period. Coverage of beneficial aquatic vegetation such as knotgrass, maidencane and bulrush should increase following refill due to germination of seeds exposed during the drawdown. The subsequent increase in vegetation communities should significantly increase fish food organisms and sport fish populations.

d. Muck removal will be performed to enhance aquatic habitat and improve boating conditions. Approximately 5 million cubic yards of organic material will be removed. The material will be disposed of on upland sites or used to create in-lake wildlife islands. Wildlife islands serve as excellent rookery sites for wading birds and also serve as resting and basking areas for reptiles.

2. Alternatives

a. Several drawdown alternatives will be identified and evaluated during the study.

b. Potential environmental resources and issues to be evaluated in the DEIS include project impacts on:

(1) Fish and wildlife resources.

(2) Wetlands resources.

(3) Wildlife habitat & values.

(4) Vegetation.

(5) Water quality.

(6) Surface & groundwater resources.

(7) Endangered or threatened species.

(8) Historical or archeological resources.

(9) Aesthetics.

(10) Nuisance and exotic plant species.

(11) Downstream effects.

(12) Air quality & noise.

(13) Soils.

(14) Navigation and recreation.

(15) Freeze protection.

(16) Local tropical fish farms.

c. Because of the magnitude and duration of this project the U.S. Army Corps of Engineers, the Florida Fish and Wildlife Conservation Commission and the South Florida Water Management District have determined that a DEIS should be prepared for the Project pursuant to the National Environmental Policy Act (NEPA).

3. Scoping

The scoping process as outlined by the Council on Environmental Quality will be utilized to involve Federal, State, and local agencies; and other interested persons and organizations. A scoping letter will be sent to interested Federal, State, local agencies and interested parties requesting comments and concerns regarding issues to consider during the study. Responses to this letter will help identify the potential environmental impacts to be evaluated in the DEIS. Additional comments are welcome and may be provided to the above address. Public meetings may be held in the future. Exact dates, times, and locations will be published in local papers.

4. Schedule

It is estimated that the DEIS will be available to the public by the spring of 2001.

Gregory D. Showalter,
Army Federal Register Liaison Officer.

[FR Doc. 00-19798 Filed 8-3-00; 8:45 am]

BILLING CODE 3710-AJ-P